DEPARTMENT OF EDUCATION

34 CFR Chapter VI

[ED-2024-OPE-0002]

Augustus F. Hawkins Centers of Excellence Program

AGENCY: Office of Postsecondary Education, Department of Education.

ACTION: Final priorities, requirements, and definition.

SUMMARY: The Department of Education (Department) issues priorities, requirements, and definition for use in the Augustus F. Hawkins Centers of Excellence (Hawkins) Program, Assistance Listing Number 84.428A. The Department may use one or more of these priorities, requirements, and definition for competitions in fiscal year (FY) 2024 and later years. We intend for these priorities, requirements, and definition to help increase the number of, and retain, well-prepared teachers from diverse backgrounds, resulting in a more diverse teacher workforce prepared to teach in our Nation's underserved elementary and secondary schools and close student opportunity and achievement gaps.

DATES: These priorities, requirements, and definition are effective May 6, 2024.

FOR FURTHER INFORMATION CONTACT: Dr. Vicki Robinson, U.S. Department of Education, 400 Maryland Avenue SW, 5th floor, Washington, DC 20202. Telephone: (202) 453-7907. Email: Vicki.Robinson@ed.gov. You may also contact Ashley Hillary, U.S. Department of Education, 400 Maryland Avenue SW, 5th floor, Washington, DC 20202. Telephone: (202) 453-7880. Email: Ashley.Hillary@ed.gov.

If you are deaf, hard of hearing, or have a speech disability and wish to access telecommunications relay services, please dial 7-1-1.

SUPPLEMENTARY INFORMATION:

Purpose of Program: The Hawkins Program, authorized under Part B of Title II of the Higher Education Act of 1965, as amended (HEA), is designed to support comprehensive, high-quality State-accredited teacher preparation programs by creating centers of excellence at Historically Black Colleges and Universities (HBCUs); Tribal Colleges or Universities (TCUs); or Minority Serving Institutions (MSIs), such as Hispanic-Serving Institutions (HSIs). The Hawkins Program will help increase the number of, and retain, well-prepared teachers from diverse backgrounds, resulting in a more diverse teacher workforce prepared to teach in our Nation's most-underserved elementary and secondary schools and close student opportunity and achievement gaps. This program focuses on the various aspects of the teacher preparation pipeline, including the recruitment, preparation, support, placement, retention and retraining of teachers for and in under-resourced schools to support underserved students. Through this program, the Secretary seeks to fund applicants that propose to incorporate evidence-based practices into their teacher preparation program.

Program Authority: 20 U.S.C. 1033-1033a.

We published a notice of proposed priorities, requirements, and definition in the Federal Register on February 1, 2024 (89 FR 6470) (NPP). That document contained background information and the Department's reasons for proposing the particular priorities, requirements, and definition. There are no substantive differences between the proposed priorities, requirements, and definition and these final priorities, requirements, and definition.

Public Comment: In response to our invitation in the NPP, six parties submitted comments on the proposed priorities, requirements, and definition. Generally, we do not address technical and other minor changes, or suggested changes that the law does not authorize us to make under applicable statutory authority. In addition, we do not address general comments that raised concerns not directly related to the proposed priorities, requirements, or definition.

Analysis of Comments and Changes: An analysis of the comments and of any changes in the priorities, requirements, and definition since publication of the NPP follows.

General Comments

Comments: Two commenters expressed support for components from several of the proposed priorities, including the emphasis on evidence-based components of teacher preparation programs, the focus on clinical experiences and high-quality mentoring, the support for teacher candidates serving in schools in roles that assist students and teachers, the recognition that the retention and preparation of teacher candidates from diverse backgrounds benefits all students, and the use of HBCUs, TCUs, and MSIs to prepare teachers. One commenter expressed support for the definition of “pre-service.”

Discussion: We appreciate the support of the priorities and the definition.

Changes: None.

Comments: One commenter asked us to expand Priority 2 to include teacher candidates with disabilities.

Discussion: Priority 2 is designed to increase teacher diversity by supporting teacher candidates from backgrounds that are underrepresented in the profession, which could include teacher candidates with disabilities. Applicants under this priority are asked for a plan to identify, support, and promote the retention of teacher candidates “from backgrounds that are underrepresented in the profession.” While teacher candidates of color are mentioned as one such population of individuals underrepresented within the teaching profession, under this priority, applicants may propose to serve individuals from other underrepresented populations, including but not limited to teacher candidates with disabilities. This is consistent with the authorizing statute for this program, which incorporates as an allowable use of funds “consideration of individuals from underrepresented populations in the teaching profession.” 20 U.S.C. 1022a(e)(2)(a)(vi)(II).

Changes: None.

Comments: One commenter asked that we include a priority to support early childhood multilingual teacher preparation pathways.

Discussion: We agree that there is a need for supports for bilingual and multilingual teachers, including for early learners. Priority 3 is designed to expand the number of bilingual and multilingual teachers with full teacher certification. For purposes of this grant program, this priority is focused on increasing the number of teachers across elementary and secondary schools who are fully certified to provide academic language instruction in a language other than English, including for English Learners (ELs), because of the focus within 20 U.S.C. 1033a(b)(2) on teacher preparation for elementary and secondary schools. While we are not including it as a priority, projects to support pathways for early childhood teachers would be permitted under this program.

Changes: None.

Comments: One commenter contended that the Hawkins grant program overall is discriminatory.

Discussion: We disagree with the commenter. The program does not discriminate against any group. The authorizing statute for this program incorporates as an allowable use of funds “consideration of individuals from underrepresented populations in the teaching profession.” 20 U.S.C. 1022a(e)(2)(a)(vi)(II). As such, Priority 2 is designed to increase the number of well-prepared teachers and the diversity of the teacher workforce by seeking supports for teacher candidates and teachers from backgrounds that are underrepresented in the profession. In addressing this priority, applicants will be able to identify specific populations that are underrepresented in the teaching profession across a range of characteristics, and the priority language does not prohibit teacher candidates who are not from underrepresented populations from participating in the project.

Changes: None.

Comments: One commenter expressed concerns with linking closure of the achievement gap to teacher diversity.

Discussion: The statutory purpose of the Hawkins grant program is to support teacher preparation programs that “prepare teachers to serve in low-performing schools and close student achievement gaps.” 20 U.S.C. 1033a(b)(1)(B)(i). We believe, based on current research, that increasing the number of well-prepared teachers from diverse backgrounds is one factor that can contribute to the success of students. Research shows that teachers of color benefit all students and can have a significant positive impact on students of color,¹ including higher levels of student achievement.² Additionally, as we discussed in the NPP, and as the commenter recognizes, there are numerous reasons students benefit from a diverse teacher workforce.

¹ Dee, T. (2004). Teachers, race and student achievement in a randomized experiment. The Review of Economics and Statistics, 86(1), 195-210; Gershenson, S., Hart, C.M.D., Lindsay, C.A., & Papageorge, N.W. (2017). The long-run impacts of same race teachers. Bonn, Germany: IZA Institute of Labor Economics. Discussion Paper Series

² Egalite, A., Kisida, B., & Winters, M.A. Representation in the classroom: The effect of own-race teachers on student achievement, Economics of Education Review, 45 (April 2015), 44-52.

Changes: None.

Final Priorities

The Secretary establishes the following priorities for use in the Hawkins Program.

Priority 1: Increase Evidence-Based, Comprehensive Pre-service Clinical Experiences Through Teacher Preparation Programs.

Under this priority, an eligible applicant must propose projects that are evidence-based (as defined in 34 CFR 77.1) comprehensive teacher preparation programs that provide extensive clinical experience. Applicants with existing programs must describe their record in graduating highly skilled, well-prepared, and diverse teachers and describe how the proposed project will refine or enhance existing programs. Applicants proposing new programs must describe how their new program is evidence-based and designed to achieve the intended outcomes of the Hawkins Program. Applicants must also address how they will—

(a) Examine the sources of inequity and inadequacy in resources and opportunity and implement pedagogical practices in teacher preparation programs that are inclusive with regard to race, ethnicity, culture, language, gender, and disability status and that prepare teachers to create inclusive, supportive, equitable, unbiased, and identity-safe learning environments for their students;

(b) Prepare teacher candidates to integrate rigorous academic content, including through the effective use of technology, and instructional techniques and strategies consistent with universal design for learning principles;

(c) Prepare teacher candidates to design and deliver instruction in ways that are engaging and provide their students with opportunities to think critically and solve complex problems, apply learning in authentic and real-world settings, communicate and collaborate effectively, and develop growth mindsets. Teacher candidate pedagogy should include how to incorporate project-based, work-based, or other experiential learning opportunities in curriculum development;

(d) Prepare teacher candidates to build meaningful and trusting relationships with students and their families to support in-home, community-based, and in-school learning; and

(e) Provide sustained and high-quality pre-service clinical experiences, including teaching assistant initiatives, that facilitate the pathway to the teaching credential for those with paraprofessional experience or high-quality school leader pre-service training, induction, and support in the first three years of school leadership for principals and other school leaders. In designing such experiences, applicants must consider opportunities to provide pre-service clinical experience earlier in the teacher preparation program, as is practicable, and in ways that benefit students and teachers. These clinical experiences must be designed to—

(1) Integrate pedagogy and classroom practice and promote effective teaching skills in academic content areas;

(2) Be tightly aligned with course work with clear, relevant, and strong links between theory and practice;

(3) Group teacher candidates in cohorts to facilitate reflection of practice and professional collaboration;

(4) Closely supervise interaction between teacher candidates and faculty, experienced teachers, principals, and other administrators in high-need schools or hard-to-staff schools; and

(5) Provide high-quality-teacher mentoring.

Priority 2: Projects that are Designed to Increase and Retain the Number of Well-Prepared Teachers from Diverse Backgrounds.

Under this priority, applicants must propose projects that are designed to increase the number of well-prepared teachers and the diversity of the teacher workforce with a focus on increasing and retaining a diverse teacher workforce, and improving the preparation, recruitment, retention, and placement of such teachers.

Applicants addressing this priority must describe—

(a) How their project will integrate multiple services or initiatives across academic and student affairs, such as academic advising, counseling, stipends, child-care, structured/guided pathways from teacher candidates' first year in the preparation program through successful employment placement, career services, or student financial aid, such as scholarships, with the goal of increasing program completion and credential attainment;

(b) Their plan for identifying and supporting teacher candidates from backgrounds that are underrepresented in the profession, including teacher candidates of color. This plan must span the beginning of the preparation program through graduation, and include a plan to improve program entry rates, as applicable, graduation rates, passage rates for certification and licensure exams, and rates of successful employment placement between teacher candidate subgroups and an institution's overall teacher candidate population; and

(c) Their proposed initiatives to promote the retention of teachers from backgrounds that are underrepresented in the profession, including teachers of color, prepared through the program, which may include induction programs, such as teacher or school leader induction programs, or mentorship programs that provide school and district leaders with the support they need to persist in their professions.

Priority 3—Increasing the Number of Bilingual and/or Multilingual Teachers with Full Certification.

Under this priority, applicants must propose projects that are designed to prepare effective and experienced bilingual and/or multilingual teachers for high-need schools by increasing the number of teachers across elementary and secondary schools who are fully certified to provide academic language instruction in a language other than English, including for English Learners (ELs). These projects must prepare teacher candidates to lead students toward linguistic fluency and academic achievement in more than one language. Applicants must describe—

(a) How their project will integrate multiple services or initiatives across academic and student affairs, such as academic advising, counseling, stipends, child-care, structured/guided pathways from teacher candidates' first year in the preparation program through successful employment placement, career services, or student financial aid, such as scholarships, and provide the necessary knowledge and skills so that teacher candidates can serve students from many different language backgrounds; and

(b) Their plan for recruiting, supporting, and retaining bilingual and/or multilingual teacher candidates, including those who may have a teaching credential but have not been teaching in bilingual and/or multilingual education settings; aspiring teachers; and teaching assistants who are interested in becoming bilingual and/or multilingual teachers.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Secretary establishes the following requirements for use in the Hawkins Program.

Requirement 1—Draft Written Agreement with Clinical Practice Partner(s). An applicant must provide a Draft Written Agreement (DWA) that identifies the partnership between: (1) at least one eligible IHE with a State accredited teacher preparation program, and (2) a high-need local educational agency (LEA) or consortium of high-need LEAs, or with a high-need school or consortium of high-need schools. The agreement with partners is intended to ensure that the parties joining the project are committed to fulfilling the purpose of the clinical practice by either creating new partnerships or expanding existing partnerships, and that teacher candidates will not become the teacher of record prior to completing the certification program, including pre-service clinical experience, and, for any candidates who entered the program without a bachelor's degree, obtaining a bachelor's. Grantees will finalize the DWA into a Final Written Agreement (FWA) within 120 days of grant award notification.

Requirement 2—Supplement-Not-Supplant. Grant funds must be used so that they supplement and, to the extent practical, increase the funds that would otherwise be available for the activities to be carried out under this grant.

Requirement 3—Indirect Cost Rate Information. A grantee's indirect cost reimbursement is limited to 8 percent of a modified total direct cost base. For more information regarding indirect costs, or to obtain a negotiated indirect cost rate, please see www.ed.gov/about/offices/list/ocfo/intro.html.

Final Definition

The Secretary establishes the following definition for use in the Hawkins Program.

Pre-service means the period of training for a person who does not have a prior teaching certification or license and who is enrolled in a State-approved teacher education program at an institution of higher education, prior to becoming the teacher of record.

This document does not preclude us from proposing additional priorities, requirements, definitions, or selection criteria, subject to meeting applicable rulemaking requirements.

Note: This document does not solicit applications. In any year in which we choose to use any of these priorities, requirements, or definition, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles set forth in this Executive order, as specifically authorized in a timely manner by the Administrator of OIRA in each case.

This final regulatory action is not a significant regulatory action subject to review by OMB under section 3(f) of Executive Order 12866, as amended by Executive Order 14094.

We have also reviewed this final regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, and definition only on a reasoned determination that their benefits justify their costs. In choosing among alternative regulatory approaches, we selected those approaches that maximize net benefits. Based on the analysis that follows, the Department believes that this regulatory action is consistent with the principles in Executive Order 13563.

The potential costs associated with these priorities, requirements, and definition are minimal, while the potential benefits are significant. The Department believes that this final regulatory action will not impose significant costs on eligible entities. Participation in this program is voluntary, and the costs imposed on applicants by this regulatory action will be limited to paperwork burden related to preparing an application. The potential benefits of implementing the program will outweigh the costs incurred by applicants, and the costs of carrying out activities associated with the application will be paid for with program funds. For these reasons, we have determined that the costs of implementation will not be burdensome for eligible applicants, including small entities.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of Federal financial assistance.

This document provides early notification of our specific plans and actions for this program.

Regulatory Flexibility Act Certification

The Secretary certifies that these final priorities, requirements, and definition will not have a significant economic impact on a substantial number of small entities.

The small entities that this final regulatory action will affect are IHEs that meet the eligibility requirements described in section 241(1) of the HEA. The Secretary believes that the costs imposed on applicants by the final priorities, requirements, and definition will be limited to paperwork burden related to preparing an application and that the benefits will outweigh any costs incurred by applicants. Participation in this program is voluntary. For this reason, the final priorities, requirements, and definition will impose no burden on small entities unless they applied for funding under the program. We expect that in determining whether to apply for Hawkins Program funds, an eligible applicant would evaluate the requirements of preparing an application and any associated costs, and weigh them against the benefits likely to be achieved by receiving a Hawkins Program grant. Eligible applicants most likely would apply only if they determine that the likely benefits exceed the costs of preparing an application. The likely benefits include the potential receipt of a grant as well as other benefits that may accrue to an entity through its development of an application, such as the use of that application to seek funding from other sources to address the teacher shortage present in the Nation's high need-need public schools.

This final regulatory action will not have a significant economic impact on a small entity once it receives a grant because it will be able to meet the costs of compliance using the funds provided under this program.

Paperwork Reduction Act of 1995

These final priorities, requirements, and definition do not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Nasser Paydar,
Assistant Secretary for Postsecondary Education.

[FR Doc. 2024-07131 Filed 4-3-24; 8:45 am]

BILLING CODE 4000-01-P